NATIONAL AERONAUTICS AND SPACE ADMINISTRATION

[Notice 04-157]

Notice of Prospective Patent License

AGENCY: National Aeronautics and Space Administration.

ACTION: Notice of prospective patent license.

SUMMARY: NASA hereby gives notice that Intaka Corporation, of Sunnyvale, California, has applied for a partially exclusive license to practice the invention, NASA case MFS-31549-1, “Ultra Thin Substrate Integral Memory and Radio Frequency Identification Devices”, U.S. patent application no. 09/962,704 and assigned to the United States of America as represented by the Administrator of the National Aeronautics and Space Administration. Written objections to the prospective grant of a license should be sent to Mr. Jerry L. Seemann, Chief Patent Counsel/LS01, Marshall Space Flight Center, Huntsville, AL 35812. NASA has not yet made a determination to grant the requested license and may deny the requested license even if no objections are submitted within the comment period.

DATES: Responses to this notice must be received by January 13, 2005.

FOR FURTHER INFORMATION CONTACT: Sammy A. Nabors, Technology Transfer Department/CD30, Marshall Space Flight Center, Huntsville, AL 35812, (256) 544-5226.

Dated: December 8, 2004.
Keith T. Sefton,
Deputy General Counsel, Administration and Management.

[FR Doc. 04-28518 Filed 12-28-04; 8:45 am]

BILLING CODE 7510-13-P